DEPARTMENT OF COMMERCE

National Oceanic and Atmospheric Administration

RIN 0648-XF22

Marine Mammals; File No. 775-1875

AGENCY: National Marine Fisheries Service (NMFS), National Oceanic and Atmospheric Administration (NOAA), Commerce.

ACTION: Notice; receipt of application for permit amendment.

SUMMARY: Notice is hereby given that the NMFS Northeast Fisheries Science Center (NEFSC), Woods Hole, MA, has applied for an amendment to Scientific Research Permit No. 775-1875.

DATES: Written, telefaxed, or e-mail comments must be received on or before May 14, 2009.

ADDRESSES: The application and related documents are available for review by selecting “Records Open for Public Comment” from the Features box on the Applications and Permits for Protected Species (APPS) home page, https://apps.nmfs.noaa.gov, and then selecting File No. 775-1875 from the list of available applications.

These documents are also available upon written request or by appointment in the following office(s):

Permits, Conservation and Education Division, Office of Protected Resources, NMFS, 1315 East-West Highway, Room 13705, Silver Spring, MD 20910; phone (301)713-2289; fax (301)427-2521; and

Northeast Region, NMFS, 55 Great Republic Drive, Gloucester, MA 01930; phone (978)281-9300; fax (978)281-9333.

Written comments or requests for a public hearing on this application should be submitted to the Chief, Permits, Conservation and Education Division, F/PR1, Office of Protected Resources, NMFS, 1315 East-West Highway, Room 13705, Silver Spring, MD 20910. Those individuals requesting a hearing should set forth the specific reasons why a hearing on this particular application would be appropriate.

Comments may also be submitted by facsimile at (301)427-2521, provided the facsimile is confirmed by hard copy submitted by mail and postmarked no later than the closing date of the comment period.

Comments may also be submitted by e-mail. The mailbox address for providing e-mail comments is NMFS.Pr1Comments@noaa.gov. Include “File No. 775-1875” in the subject line of the e-mail comment as a document identifier.

FOR FURTHER INFORMATION CONTACT: Tammy Adams or Carrie Hubard, (301)713-2289.

SUPPLEMENTARY INFORMATION: The subject amendment to Permit No. 775-1875 is requested under the authority of the Marine Mammal Protection Act of 1972, as amended (16 U.S.C. 1361 et seq.), and the regulations governing the taking and importing of marine mammals (50 CFR part 216).

Permit No. 775-1875, issued on January 16, 2008 (73 FR 4846), authorizes the permit holder to conduct research related to stock assessments on seven species of baleen whales, twenty-five species or stocks of odontocetes, and four species of pinnipeds. Permitted research on pinnipeds includes aerial and vessel surveys, capture for collection of biological samples, and harassment incidental to research and collection of scat. The permit holder is requesting the permit be amended to include authorization for harassment of additional harbor seals (Phoca vitulina) and gray seals (Halichoerus grypus) incidental to scat collection, and collection of additional harbor seal pup carcasses found on rookeries and haulouts. The increases are necessary due to the rapidly increasing seal populations at all major haulouts, which has resulted in researchers encountering more seals than anticipated when the original permit was requested in 2006. The amendment does not represent a change in the manner in which the research is conducted, including location, frequency or duration of research activities. The amendment would be valid for the duration of the permit, which expires on January 15, 2013.

In compliance with the National Environmental Policy Act of 1969 (42 U.S.C. 4321 et seq.), an environmental assessment (EA) was prepared to examine whether significant environmental impacts could result from issuance of Permit No. 775-1875. Based on the analyses in the EA, NMFS determined that issuance of the permit amendment would not significantly impact the quality of the human environment and that preparation of an environmental impact statement is not required. The EA is available upon request.

Concurrent with the publication of this notice in the Federal Register, NMFS is forwarding copies of this application to the Marine Mammal Commission and its Committee of Scientific Advisors.

Dated: April 7, 2009.
Tammy C. Adams,
Acting Chief, Permits, Conservation and Education Division, Office of Protected Resources, National Marine Fisheries Service.

[FR Doc. E9-8515 Filed 4-13-09; 8:45 am]

BILLING CODE 3510-22-S